DEPARTMENT OF VETERANS AFFAIRS

[OMB Control No. 2900-0418]

Agency Information Collection Activity Under OMB Review: Veterans Affairs Acquisition Regulation (VAAR) 809.507-1 and VAAR Provision 852.209-70

AGENCY: Procurement Policy and Warrant Management Service, Office of Procurement Policy, Systems and Oversight, Office of Acquisition and Logistics (OAL), Department of Veterans Affairs.

ACTION: Notice.

SUMMARY: In compliance with the Paperwork Reduction Act (PRA) of 1995, this notice announces that the Office of Acquisition and Logistics, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0418.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0418” in any correspondence.

SUPPLEMENTARY INFORMATION:

Authority: 44 U.S.C. 3501-21.

Title: Veterans Affairs Acquisition Regulation (VAAR) 809.507-1 and VAAR Provision 852.209-70.

OMB Control Number: 2900-0418.

Type of Review: Extension of a currently approved collection.

Abstract: Performance of VA mission requires the use of contractors. VAAR provision 852.209-70, Organizational Conflicts of Interest is to implement section 8141 of the 1989 Department of Defense Appropriation Act, Public Law 100-463, 102 Stat. 2270-47 (1988). VAAR 809.507-1, Solicitation provisions, and VAAR provision 852.209-70, Organizational Conflicts of Interest, requires offerors on solicitations for management support and consulting services to advise, as part of the firm's offer, whether or not award of the contract to the firm might involve a conflict of interest or potential conflict of interest, and, if so, to disclose all relevant facts regarding the conflict or potential conflict. The information is used by the contracting officer to determine whether or not to award a contract to the firm or, if a contract is to be awarded despite a potential conflict, whether or not additional contract terms and conditions are necessary to mitigate the conflict.

An agency may not conduct or sponsor, and a person is not required to respond to a collection of information unless it displays a currently valid OMB control number. The Federal Register Notice with a 60-day comment period soliciting comments on this collection of information was published at 88 FR 62429 on September 11, 2023 pages 62429 and 62430.

Affected Public: Business or other for-profit.

Estimated Annual Burden: 102 hours.

Estimated Average Burden per Respondent: 60 minutes.

Frequency of Response: 1 per each solicitation.

Estimated Number of Respondents: 102.

By direction of the Secretary.
Maribel Aponte,
VA PRA Clearance Officer, Office of Enterprise and Integration, Data Governance Analytics, Department of Veterans Affairs.

[FR Doc. 2023-26578 Filed 12-4-23; 8:45 am]

BILLING CODE 8320-01-P